DEPARTMENT OF TRANSPORTATION

Federal Transit Administration

Notice of Meeting of the Transit Advisory Committee for Safety

AGENCY: Federal Transit Administration, Department of Transportation.

ACTION: Notice of public meeting.

SUMMARY: The Federal Transit Administration (FTA) announces a public meeting of the Transit Advisory Committee for Safety (TRACS).

DATES: The TRACS meeting will be held on June 7, 2023, from 10:00 a.m. to 5:00 p.m., and June 8, 2023, from 10:00 a.m. to 2:00 p.m., Eastern Time. This will be a hybrid meeting, taking place both in person at the U.S. Department of Transportation (DOT) Headquarters and virtually via Zoom for Government. Requests to attend the meeting in person or virtually must be received no later than May 31, 2023. Requests for disability accommodations must be received no later than May 31, 2023. Requests to verbally address the committee during the meeting must be submitted with a written copy of the remarks to DOT no later than May 31, 2023. Requests to submit written materials to be reviewed during the meeting must be received no later than May 31, 2023.

ADDRESSES: The meeting will be held in person at DOT Headquarters, 1200 New Jersey Avenue SE, Washington, District of Columbia, 20590 and virtually via Zoom for Government. Any committee related requests should be sent by email to TRACS@dot.gov. The virtual meeting's online access link and a detailed agenda will be provided upon registration. They will also be posted on the TRACS web page at: https://www.transit.dot.gov/regulations-and-guidance/safety/transit-advisory-committee-safety-tracs one week in advance of the meeting. A copy of the meeting minutes and other TRACS-related information will also be available on the TRACS web page.

FOR FURTHER INFORMATION CONTACT: Joseph DeLorenzo, TRACS Designated Federal Officer, Associate Administrator, FTA Office of Transit Safety and Oversight, Joseph.DeLorenzo@dot.gov; or Bridget Zamperini, TRACS Program Manager, FTA Office of Transit Safety and Oversight, (202) 366-0306, or TRACS@dot.gov.

SUPPLEMENTARY INFORMATION: This notice is provided in accordance with the Federal Advisory Committee Act (FACA) (Pub. L. 92-463, 5 U.S.C. app. 2). TRACS is composed of up to 25 members representing a broad base of perspectives on transit safety necessary to discharge its responsibilities. Please see the TRACS web page for additional information at https://www.transit.dot.gov/regulations-and-guidance/safety/transit-advisory-committee-safety-tracs.

I. Background

The U.S. Secretary of Transportation (Secretary) established TRACS in accordance with FACA to provide information, advice, and recommendations to the Secretary and FTA Administrator on matters relating to the safety of public transportation systems.

II. Agenda

• Welcome Remarks and Introductions

• Overview of Hybrid Meeting Platform Functions

• Review of TRACS Tasks, Subcommittees, and Subcommittee Work Plans:

1. Advancing Rider and Worker Safety

2. Reducing Bus Collisions

3. Cyber and Data Security Systems

• Subcommittee Breakout Working Sessions

• Public Comments

• Summary of Deliverables, Next Steps, and Concluding Remarks

III. Public Participation

The in-person attendance option will be open to the public on a first come, first served basis, as space is limited. Members of the public who wish to attend in-person are asked to register via email by submitting their name and affiliation to the email address listed in the ADDRESSES section. The virtual attendance option does not have restrictions. Members of the public who wish to attend virtually also are asked to register via email by submitting their name and affiliation to the email address listed in the ADDRESSES section.

DOT is committed to providing equal access to this meeting for all participants. If you need alternative formats or services because of a disability, such as sign language, interpretation, or other ancillary aids, please contact the email address listed in the ADDRESSES section.

There will be a total of 60 minutes allotted for oral comments from members of the public at the meeting. To accommodate as many speakers as possible, the time for each commenter may be limited. Individuals wishing to reserve speaking time during the meeting must submit a request at the time of registration, to include the individual's name, address, and organizational affiliation to the email address listed in the ADDRESSES section.

Written and oral comments for consideration by TRACS during the meeting must be submitted no later than the deadline listed in the DATES section to ensure transmission to TRACS members prior to the meeting. Comments received after that date will be distributed to the members but may not be reviewed prior to the meeting.

Nuria I. Fernandez,
Administrator.

[FR Doc. 2023-11078 Filed 5-23-23; 8:45 am]

BILLING CODE P